DEPARTMENT OF TRANSPORTATION

Office of the Secretary

Notice of Applications for Certificates of Public Convenience and Necessity and Foreign Air Carrier Permits Filed Under Subpart B (Formerly Subpart Q) During the Week Ending November 21, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-27718.

Date Filed: November 17, 2009.

Due Date for Answers, Conforming Applications, or Motion to Modify Scope: December 8, 2009.

Description: Application of Insel Air International B.V. requesting an amendment of its foreign air carrier permit to allow it to engage in scheduled air transportation of persons, property, and mail from points behind the Netherlands Antilles, via the Netherlands Antilles and intermediate points, to points in the United States and beyond, to the full extent permitted by the US-Netherlands Antilles Air Transport Agreement. Insel Air also requests exemption authority so that it may exercise the rights requested in this application prior to the issuance of an amended foreign air carrier permit.

Renee V. Wright,
Program Manager, Docket Operations, Federal Register Liaison.

[FR Doc. E9-29780 Filed 12-14-09; 8:45 am]

BILLING CODE 4910-9X-P